DEPARTMENT OF DEFENSE

Office of the Secretary

[Docket ID: DOD-2017-OS-0016]

Privacy Act of 1974; System of Records

AGENCY: Office of the Secretary of Defense, DoD.

ACTION: Rescindment of a System of Records notice.

SUMMARY: The Office of the Secretary of Defense is rescinding a system of records, DPR 31, Personal Commercial Solicitation Evaluation. These files document service member experiences with sales representatives soliciting on DoD installations.

DATES: Comments will be accepted on or before May 18, 2017. This proposed action will be effective the date following the end of the comment period unless comments are received which result in a contrary determination. The specific date when this system ceased to be a Privacy Act System of Records is unknown.

ADDRESSES: You may submit comments, identified by docket number and title, by any of the following methods:

* Federal Rulemaking Portal: http://www.regulations.gov.

Follow the instructions for submitting comments.

* Mail: Department of Defense, Office of the Deputy Chief Management Officer, Directorate for Oversight and Compliance, 4800 Mark Center Drive, Mailbox #24, Suite 08D09B, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: To submit general questions about the rescinded system, please contact Mrs. Luz D. Ortiz, Chief, Records, Privacy and Declassification Division (RPDD), 1155 Defense Pentagon, Washington, DC 20301-1155, or by phone at (571) 372-0478.

SUPPLEMENTARY INFORMATION: Based on a recent program review, it was determined that these records are presently retrieved by company and sales representative name, rather than the personal identifier of the service member.

The Office of the Secretary systems of records notices subject to the Privacy Act of 1974 (5 U.S.C. 552a), as amended, have been published in the Federal Register and are available from the address in FOR FURTHER INFORMATION CONTACT or at the Defense Privacy, Civil Liberties and Transparency Division Web site at http://defense.gov/privacy.

The proposed rescindment is not within the purview of subsection (r) of the Privacy Act of 1974 (5 U.S.C. 552a), as amended, which requires the submission of a new or altered system report.

SYSTEM NAME AND NUMBER:

Personal Commercial Solicitation Evaluation, DPR 31.

HISTORY:

July 19, 2006, 71 FR 41000.

Dated: April 13, 2017.
Aaron Siegel,
Alternate OSD Federal Register Liaison Officer, Department of Defense.

[FR Doc. 2017-07829 Filed 4-17-17; 8:45 am]

BILLING CODE 5001-06-P